DEPARTMENT OF ENERGY

Federal Energy Regulatory Commission

[Project No. 1894-209]

Notice of Availability of Environmental Assessment; Dominion Energy South Carolina Inc.

In accordance with the National Environmental Policy Act of 1969 and the Federal Energy Regulatory Commission (Commission) regulations, 18 CFR part 380 (Order No. 486, 52 FR 47897), the Office of Energy Projects has reviewed an application submitted by Dominion Energy South Carolina Inc. (licensee) to allow Newberry Sand Inc. (NSI), in Newberry and Greene Counties, South Carolina, the use of Parr Shoals Hydroelectric (FERC No. 1894) project lands and waters to conduct hydraulic sand mining. The project is located on the mainstem of the Broad River Newberry and Fairfield Counties, South Carolina.

An Environmental Assessment (EA) has been prepared as part of Commission staff's review of the proposal. In the application, NSI anticipates removing 23,500 tons of sand each year from the project reservoir. The dredge would pump sand to an upland processing area. This EA contains Commission staff's analysis of the probable environmental impacts of the proposed action and concludes that approval of the proposal would not constitute a major federal action significantly affecting the quality of the human environment with implementation of the staff recommendations.

The EA is available for electronic review and reproduction at the Commission's Public Reference Room, located at 888 First Street NE, Room 2A, Washington, DC 20426. The EA may also be viewed on the Commission's website at http://www.ferc.gov using the “eLibrary” link. Enter the docket number (P-1894) in the docket number field to access the document. For assistance, contact FERC Online Support at FERCOnlineSupport@ferc.gov or toll-free at (866) 208-3372 or for TTY, (202) 502-8659.

For further information, contact Michael Calloway at (202) 502-8041 or by email at michael.calloway@ferc.gov.

Dated: December 12, 2019.
Kimberly D. Bose,
Secretary.

[FR Doc. 2019-27323 Filed 12-18-19; 8:45 am]

BILLING CODE 6717-01-P